DEPARTMENT OF COMMERCE

International Trade Administration

[A-583-833]

Certain Polyester Staple Fiber from Taiwan: Rescission of Antidumping Duty Administrative Review

AGENCY: Import Administration, International Trade Administration, Department of Commerce.

ACTION: Notice of Rescission of Antidumping Duty Administrative Review.

SUMMARY: In response to a May 31, 2002, request made by Far Eastern Textile, Ltd., and Nan Ya Plastics Corporation, Ltd., producers/exporters of certain polyester staple fiber in Taiwan, the Department of Commerce published the initiation of an administrative review of the antidumping duty order on certain polyester staple fiber from Taiwan for Far Eastern Textile, Ltd. and Nan Ya Plastics Corporation, Ltd. covering the period May 1, 2001, through April 30, 2002. This review has now been rescinded as a result of the withdrawal of the requests for review by Far Eastern Textile, Ltd. and Nan Ya Plastics Corporation, Ltd.

EFFECTIVE DATE: July 24, 2002.

FOR FURTHER INFORMATION CONTACT: Suresh Maniam, AD/CVD Enforcement, Group I, Office 1, Import Administration, U.S. Department of Commerce, 14th Street and Constitution Avenue, N.W., Washington, DC 20230; telephone: (202) 482-0176.

SUPPLEMENTARY INFORMATION:

Applicable Statute

Unless otherwise indicated, all citations to the statute are references to the provisions effective January 1, 1995, the effective date of the amendments made to the Tariff Act of 1930 (the “Act”) by the Uruguay Round Agreements Act. In addition, unless otherwise indicated, all citations to the Department of Commerce's (“Department”) regulations refer to 19 CFR part 351 (2002).

Background

On May 25, 2000, the Department published an antidumping duty order on certain polyester staple fiber from Taiwan. Notice of Amended Final Determination of Sales at Less Than Fair Value: Certain Polyester Staple Fiber From the Republic of Korea and Antidumping Duty Orders: Certain Polyester Staple Fiber From the Republic of Korea and Taiwan, 65 FR 33807. On May 31, 2002, Far Eastern Textile, Ltd. (“FETL”) and Nan Ya (“Nan Ya”) Plastics Corporation, Ltd., producers/exporters of certain polyester staple fiber in Taiwan, requested an administrative review of the antidumping duty order on certain polyester staple fiber from Taiwan covering the period May 1, 2001, through April 30, 2002. In accordance with 19 CFR 351.221(c)(1)(i), we published the initiation of the review on June 25, 2002. Initiation of Antidumping and Countervailing Duty Administrative Reviews and Request for Revocations in Part, 67 FR 42753. On July 9, 2002, FETL and Nan Ya withdrew their requests for review.

Rescission of Review

The Department's regulations provide that the Department will rescind an administrative review if a party that requested a review withdraws the request within ninety days of the date of publication of the notice of initiation of the requested review. 19 CFR 351.213(d)(1). FETL's and Nan Ya's requests for review were withdrawn within the ninety-day deadline. Therefore, we have accepted FETL's and Nan Ya's withdrawal of their requests for review.

As a result of the withdrawals of the requests for review and because the Department received no other request for review, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: July 17, 2002
Richard W. Moreland,
Deputy Assistant Secretary for Import Administration.

[FR Doc. 02-18728 Filed 7-23-02; 8:45 am]

BILLING CODE 3510-DS-S